COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: December 22, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

8415-01-576-9915—Undershirt, FREE, Army, Unisex, Foliage Green, Size XS

8415-01-576-9930—Undershirt, FREE, Army, Unisex, Foliage Green, Size S

8415-01-577-0407—Undershirt, FREE, Army, Unisex, Foliage Green, Size M

8415-01-577-0408—Undershirt, FREE, Army, Unisex, Foliage Green, Size L

8415-01-577-0409—Undershirt, FREE, Army, Unisex, Foliage Green, Size XL

8415-01-577-0410—Undershirt, FREE, Army, Unisex, Foliage Green, Size XXL

8415-01-588-0506—Undershirt, FREE, Army, Unisex, Desert Sand, Size XS

8415-01-588-0740—Undershirt, FREE, Army, Unisex, Desert Sand, Size S

8415-01-588-0746—Undershirt, FREE, Army, Unisex, Desert Sand, Size M

8415-01-588-0772—Undershirt, FREE, Army, Unisex, Desert Sand, Size L

8415-01-588-0774—Undershirt, FREE, Army, Unisex, Desert Sand, Size XL

8415-01-588-0794—Undershirt, FREE, Army, Unisex, Desert Sand, Size XXL

Authorized Source of Supply: BESTWORK INDUSTRIES FOR THE BLIND, INC, Cherry Hill, NJ

Contracting Activity: W6QK ACC-APG NATICK, NATICK, MA

Service(s)

Service Type: Administrative Support Services

Mandatory for: US Army, Natick Contracting Division (ACC-APG), General Greene Avenue, Natick, MA; General Green Avenue, Natick, MA

Authorized Source of Supply: Work, Incorporated, Dorchester, MA

Contracting Activity: DEPT OF THE ARMY, W6QK ACC-APG NATICK

Service Type: Mailing Services

Mandatory for: US Department of Energy, Office of Science Chicago Office, Argonne National Laboratory, Argonne, IL; 9800 S Cass Avenue; Argonne, IL

Mandatory Source of Supply: Jewish Child and Family Services, Chicago, IL

Contracting Activity: ENERGY, DEPARTMENT OF, SE-SC CHICAGO SERVICE CENTER

Michael R. Jurkowski,
Director, Business Operations.

[FR Doc. 2024-27392 Filed 11-21-24; 8:45 am]

BILLING CODE 6353-01-P